DEPARTMENT OF ENERGY

Federal Energy Regulatory Commission

[Project No. 7189-015]

Green Lake Water Power Company; Notice of Revised Procedural Schedule for Environmental Assessment for the Proposed Project Relicense

On March 31, 2022, Green Lake Water Power Company (Green Lake Power) filed an application for a subsequent license to continue to operate and maintain the 425-kilowatt Green Lake Hydroelectric Project No. 7189 (Green Lake Project). On May 31, 2023, Commission staff issued a notice of intent to prepare an environmental assessment (EA) to evaluate the effects of relicensing the Green Lake Project. The notice included an anticipated schedule for issuing the EA. By notices issued April 11, 2024, and June 4, 2024, staff revised the procedural schedule for completing the EA.

On July 15, 2024, Commission staff requested additional information related to Green Lake Power's fall reservoir drawdown proposal and associated revisions to Exhibits A and E, filed on April 22, 2024. On September 16, 2024, Green Lake Power filed the requested additional information. In order for staff to fully consider the information filed by Green Lake Power, the procedural schedule for completing the EA is being revised as follows. Further revisions to the schedule may be made as appropriate.

Milestone | Target date
Issue EA | January 2025

Any questions regarding this notice may be directed to Amanda Gill at (202) 502-6773, or by email at amanda.gill@ferc.gov.

Dated: September 30, 2024.
Debbie-Anne A. Reese,
Acting Secretary.

[FR Doc. 2024-23055 Filed 10-4-24; 8:45 am]

BILLING CODE 6717-01-P